DEPARTMENT OF THE TREASURY

United States Mint

Citizens Coinage Advisory Committee; Teleconference

ACTION: Notification of Citizens Coinage Advisory Committee July 8, 2014, Public Meeting.

SUMMARY: Pursuant to United States Code, Title 31, section 5135(b)(8)(C), the United States Mint announces the Citizens Coinage Advisory Committee (CCAC) public meeting scheduled for July 8, 2014.

Date: July 8, 2014.

Time: 1:00 p.m. to 3:30 p.m. EDT.

Location: This meeting will occur via teleconference. Interested members of the public may attend the meeting at the United States Mint; 801 9th Street NW., Washington, DC; Conference Room A.

Subject: Discussion of design themes for the Congressional Gold Medals to be awarded to the Doolittle Tokyo Raiders, the American Fighter Aces, and the World War II Members of the Civil Air Patrol.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW., Washington, DC 20220 or call 202-354-7200.

Any member of the public interested in submitting matters for the CCAC's consideration is invited to submit them by fax to the following number: 202-756-6525.

Authority: 31 U.S.C. 5135(b)(8)(C).

Dated: June 25, 2014.
Beverly Ortega Babers,
Chief Administrative Officer, United States Mint.

[FR Doc. 2014-15408 Filed 6-30-14; 8:45 am]

BILLING CODE P